DEPARTMENT OF ENERGY

Federal Energy Regulatory Commission

Combined Notice of Filings #2

Take notice that the Commission received the following electric corporate filings:

Docket Numbers: EC19-91-000.

Applicants: GenOn Power Midwest, LP, GenOn REMA, LLC, GenOn Holdco 1, LLC, GenOn Holdco 2, LLC, GenOn Holdco 3, LLC, GenOn Holdco 4, LLC, GenOn Holdco 5, LLC, GenOn Holdco 6, LLC, GenOn Holdco 7, LLC, GenOn Holdco 8, LLC, Orrtanna Power, LLC, Shawnee Power, LLC, Titus Power, LLC, Hamilton Power, LLC, Blossburg Power, LLC, Niles Power, LLC, Hunterstown Power, LLC, Tolna Power, LLC.

Description: Application for Authorization Under Section 203 of the Federal Power Act, et al., of GenOn Power Midwest, LP, et al.

Filed Date: 5/15/19.

Accession Number: 20190515-5066.

Comments Due: 5 p.m. ET 6/5/19.

Take notice that the Commission received the following exempt wholesale generator filings:

Docket Numbers: EG19-100-000.

Applicants: GenOn Holdco 3, LLC.

Description: Self-Certification of EG of GenOn Holdco 3, LLC.

Filed Date: 5/15/19.

Accession Number: 20190515-5044.

Comments Due: 5 p.m. ET 6/5/19.

Docket Numbers: EG19-101-000.

Applicants: GenOn Holdco 4, LLC.

Description: Self-Certification of EG of GenOn Holdco 4, LLC.

Filed Date: 5/15/19.

Accession Number: 20190515-5045.

Comments Due: 5 p.m. ET 6/5/19.

Docket Numbers: EG19-102-000.

Applicants: GenOn Holdco 5, LLC.

Description: Self-Certification of EG of GenOn Holdco 5, LLC.

Filed Date: 5/15/19.

Accession Number: 20190515-5046.

Comments Due: 5 p.m. ET 6/5/19.

Docket Numbers: EG19-103-000.

Applicants: GenOn Holdco 6, LLC.

Description: Self-Certification of EG of GenOn Holdco 6, LLC.

Filed Date: 5/15/19.

Accession Number: 20190515-5047.

Comments Due: 5 p.m. ET 6/5/19.

Docket Numbers: EG19-104-000.

Applicants: GenOn Holdco 7, LLC.

Description: Self-Certification of EG of GenOn Holdco 7, LLC.

Filed Date: 5/15/19.

Accession Number: 20190515-5050.

Comments Due: 5 p.m. ET 6/5/19.

Docket Numbers: EG19-105-000.

Applicants: GenOn Holdco 8, LLC.

Description: Self-Certification of EG of GenOn Holdco 8, LLC.

Filed Date: 5/15/19.

Accession Number: 20190515-5051.

Comments Due: 5 p.m. ET 6/5/19.

Docket Numbers: EG19-106-000.

Applicants: Hamilton Power, LLC.

Description: Self-Certification of EG of Hamilton Power, LLC.

Filed Date: 5/15/19.

Accession Number: 20190515-5052.

Comments Due: 5 p.m. ET 6/5/19.

Docket Numbers: EG19-107-000.

Applicants: Hunterstown Power, LLC.

Description: Self-Certification of EG of Hunterstown Power, LLC.

Filed Date: 5/15/19.

Accession Number: 20190515-5053.

Comments Due: 5 p.m. ET 6/5/19.

Docket Numbers: EG19-108-000.

Applicants: Niles Power, LLC.

Description: Self-Certification of EG of Niles Power, LLC under.

Filed Date: 5/15/19.

Accession Number: 20190515-5054.

Comments Due: 5 p.m. ET 6/5/19.

Docket Numbers: EG19-109-000.

Applicants: Orrtanna Power, LLC.

Description: Self-Certification of EG of Orrtanna Power, LLC.

Filed Date: 5/15/19.

Accession Number: 20190515-5055.

Comments Due: 5 p.m. ET 6/5/19.

Docket Numbers: EG19-110-000.

Applicants: Shawnee Power, LLC.

Description: Self-Certification of EG of Shawnee Power, LLC.

Filed Date: 5/15/19.

Accession Number: 20190515-5056.

Comments Due: 5 p.m. ET 6/5/19.

Docket Numbers: EG19-111-000.

Applicants: Titus Power, LLC.

Description: Self-Certification of EG of Titus Power, LLC.

Filed Date: 5/15/19.

Accession Number: 20190515-5057.

Comments Due: 5 p.m. ET 6/5/19.

Docket Numbers: EG19-112-000.

Applicants: Tolna Power, LLC.

Description: Self-Certification of EG of Tolna Power, LLC.

Filed Date: 5/15/19.

Accession Number: 20190515-5058.

Comments Due: 5 p.m. ET 6/5/19.

Take notice that the Commission received the following electric rate filings:

Docket Numbers: ER19-1139-001.

Applicants: Indiana Michigan Power Company, Kentucky Power Company, AEP Generation Resources Inc., AEP Energy Partners, Inc., Kingsport Power Company, Wheeling Power Company, Appalachian Power Company.

Description: Compliance filing: MBR AEP Operating Companies Market Based Rates Tariff to be effective 3/1/2019.

Filed Date: 5/15/19.

Accession Number: 20190515-5159.

Comments Due: 5 p.m. ET 6/5/19.

Docket Numbers: ER19-1140-001.

Applicants: AEP Energy Partners, Inc., AEP Generation Resources Inc., AEP Texas Inc., Southwestern Electric Power Company, Public Service Company of Oklahoma.

Description: Compliance filing: Market-Based Rates Tariff to be effective 3/1/2019.

Filed Date: 5/15/19.

Accession Number: 20190515-5129.

Comments Due: 5 p.m. ET 6/5/19.

Docket Numbers: ER19-1861-000.

Applicants: Kansas City Power & Light Company, Southwest Power Pool, Inc.

Description: § 205(d) Rate Filing: KCP&L Formula Rate Revisions to Modify Depreciation Rates to be effective 1/1/2019.

Filed Date: 5/15/19.

Accession Number: 20190515-5094.

Comments Due: 5 p.m. ET 6/5/19.

Docket Numbers: ER19-1862-000.

Applicants: Midcontinent Independent System Operator, Inc.

Description: § 205(d) Rate Filing: 2019-05-15_SA 3163 Termination of ATC-WPS Project Commitment Agmt (Plover) to be effective 5/16/2019.

Filed Date: 5/15/19.

Accession Number: 20190515-5101.

Comments Due: 5 p.m. ET 6/5/19.

Docket Numbers: ER19-1863-000.

Applicants: Imperial Valley Solar 1, LLC.

Description: § 205(d) Rate Filing: COC IVS1 Wistaria CSOLAR IV South to be effective 5/16/2019.

Filed Date: 5/15/19.

Accession Number: 20190515-5102.

Comments Due: 5 p.m. ET 6/5/19.

Docket Numbers: ER19-1864-000.

Applicants: Public Service Company of Colorado.

Description: Compliance filing: 2019-05-15 Order 845 Compliance Filing to be effective 5/22/2019.

Filed Date: 5/15/19.

Accession Number: 20190515-5121.

Comments Due: 5 p.m. ET 6/5/19.

Docket Numbers: ER19-1865-000.

Applicants: Blossburg Power, LLC.

Description: Baseline eTariff Filing: New Baseline Market-Based Rate Tariff to be effective 7/1/2019.

Filed Date: 5/15/19.

Accession Number: 20190515-5127.

Comments Due: 5 p.m. ET 6/5/19.

Docket Numbers: ER19-1866-000.

Applicants: Hamilton Power, LLC.

Description: Baseline eTariff Filing: New Baseline Market-Based Tariff Filing to be effective 7/1/2019.

Filed Date: 5/15/19.

Accession Number: 20190515-5130.

Comments Due: 5 p.m. ET 6/5/19.

Docket Numbers: ER19-1867-000.

Applicants: Hunterstown Power, LLC.

Description: Baseline eTariff Filing: New Baseline Market-Based Tariff Filing to be effective 7/1/2019.

Filed Date: 5/15/19.

Accession Number: 20190515-5133.

Comments Due: 5 p.m. ET 6/5/19.

Docket Numbers: ER19-1868-000.

Applicants: Niles Power, LLC.

Description: Baseline eTariff Filing: New Baseline Market-Based Rate Tariff Filing to be effective 7/1/2019.

Filed Date: 5/15/19.

Accession Number: 20190515-5136.

Comments Due: 5 p.m. ET 6/5/19.

Docket Numbers: ER19-1869-000.

Applicants: Orrtanna Power, LLC.

Description: Baseline eTariff Filing: New Baseline Market-Based Rate Tariff Filing to be effective 7/1/2019.

Filed Date: 5/15/19.

Accession Number: 20190515-5139.

Comments Due: 5 p.m. ET 6/5/19.

Docket Numbers: ER19-1870-000.

Applicants: Shawnee Power, LLC.

Description: Baseline eTariff Filing: New Baseline Market-Based Rate Tariff Filing to be effective 7/1/2019.

Filed Date: 5/15/19.

Accession Number: 20190515-5141.

Comments Due: 5 p.m. ET 6/5/19.

Docket Numbers: ER19-1871-000.

Applicants: Titus Power, LLC.

Description: Baseline eTariff Filing: New Baseline Market-Based Rate Tariff Filing to be effective 7/1/2019.

Filed Date: 5/15/19.

Accession Number: 20190515-5144.

Comments Due: 5 p.m. ET 6/5/19.

Docket Numbers: ER19-1872-000.

Applicants: Tolna Power, LLC.

Description: Baseline eTariff Filing: New Baseline Market-Based Rate Tariff Filing to be effective 7/1/2019.

Filed Date: 5/15/19.

Accession Number: 20190515-5146.

Comments Due: 5 p.m. ET 6/5/19.

Docket Numbers: ER19-1873-000.

Applicants: Phoenix Energy New England, LLC.

Description: Tariff Cancellation: Cancellation of MBR Tariff to be effective 5/15/2019.

Filed Date: 5/15/19.

Accession Number: 20190515-5148.

Comments Due: 5 p.m. ET 6/5/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 15, 2019.
Nathaniel J. Davis, Sr.,
Deputy Secretary.

[FR Doc. 2019-10533 Filed 5-20-19; 8:45 am]

BILLING CODE 6717-01-P